DEPARTMENT OF LABOR

Employment and Training Administration

Job Corps Centers Proposed for Consolidation and Deactivation of Non-Operational Job Corps Centers: Comments Requested

AGENCY: Office of Job Corps, Employment and Training Administration (ETA), Labor.

ACTION: Notice.

SUMMARY: The Employment and Training Administration (ETA) of the U.S. Department of Labor (the Department or DOL) is issuing this notice proposing the deactivation of the Gainesville Job Corps Center (Gainesville) in Gainesville, Florida and the consolidation of the Barranquitas Job Corps Center (Barranquitas) in Barranquitas, Puerto Rico with two other Job Corps Centers located in Puerto Rico. This proposed consolidation would maintain the same overall number of students served in Puerto Rico. The Gainesville center has been inactive since Hurricane Irma in September 2017. This facility incurred considerable hurricane damage and hazardous environmental conditions exist. The Barranquitas center has been inactive since Hurricane Maria significantly damaged it in September 2017. Under these proposals, at-risk youth in Florida and Puerto Rico will continue to have options for service by the Job Corps program. This notice seeks public comment on these proposals.

DATES: To be ensured consideration, comments must be submitted in writing on or before February 1, 2019.

ADDRESSES: You may submit comments, identified by Docket Number ETA-2018-0006, by only one of the following methods:

Federal e-Rulemaking Portal: http://www.regulations.gov. Follow the website instructions for submitting comments.

Mail and hand delivery/courier: Submit comments to Lenita Jacobs-Simmons, National Director, Office of Job Corps (OJC), U.S. Department of Labor, Employment and Training Administration, 200 Constitution Avenue NW, Room N-4459, Washington, DC 20210. Due to security-related concerns, there may be a significant delay in the receipt of submissions by United States Mail. You must consider this when preparing to meet the deadline for submitting comments. The Department will post all comments received on http://www.regulations.gov without making any changes to the comments or redacting any information, including any personal information provided. The http://www.regulations.gov website is the Federal e-rulemaking portal and all comments posted there are available and accessible to the public. The Department recommends that commenters not include personal information such as Social Security Numbers, personal addresses, telephone numbers, and email addresses in their comments that they do not wish to be made public, as such submitted information will be available to the public via the http://www.regulations.gov website. Comments submitted through http://www.regulations.gov will not include the email address of the commenter unless the commenter chooses to include that information as part of his or her comment. It is the responsibility of the commenter to safeguard personal information.

Instructions: All submissions received should include the Docket Number for the notice: Docket Number ETA-2018-0006. Please submit your comments by only one method. Again, please note that due to security concerns, postal mail delivery in Washington, DC may be delayed. Therefore, the Department encourages the public to submit comments on http://www.regulations.gov.

Docket: All comments on the selected Job Corps Center will be available on the http://www.regulations.gov website. The Department also will make all of the comments it receives available for public inspection by appointment during normal business hours at the above address. If you need assistance to review the comments, the Department will provide appropriate aids such as readers or print magnifiers. The Department will make copies of this methodology and the selected Job Corps center materials available, upon request, in large print and electronic file on computer disk. To schedule an appointment to review the comments and/or obtain the notice in an alternative format, contact the Office of Job Corps at (202) 693-3000 (this is not a toll-free number). You may also contact this office at the address listed below.

FOR FURTHER INFORMATION CONTACT: Lenita Jacobs-Simmons, National Director, Office of Job Corps, ETA, U.S. Department of Labor, 200 Constitution Avenue NW, Room N-4463, Washington, DC 20210; Telephone (202) 693-3000 (this is not a toll-free number). Individuals with hearing or speech impairments may access the telephone number above via TTY by calling the toll-free Federal Information Relay Service at 1-(877) 889-5627 (TTY/TDD).

SUPPLEMENTARY INFORMATION:

I. Background on the Job Corps Program

Established in 1964, Job Corps is a national program administered by ETA in the Department. It is the nation's largest federally-funded, primarily residential skills instruction program for at-risk youth, ages 16 to 24. Through 123 centers in 50 states, Puerto Rico, and the District of Columbia, Job Corps seeks to change lives through education and skills instruction for in-demand careers. Job Corps serves at-risk young people who seek to overcome barriers to employment, which can include poverty, homelessness, or aging out of the foster care system, by providing them with the academic, career technical, and employability skills to enter the workforce, enroll in post-secondary education, pursue apprenticeship opportunities, or enlist in the military.

Large and small businesses, nonprofit organizations, and Native American tribes manage and operate 98 of the Job Corps centers through contractual agreements with the Department of Labor, which are awarded pursuant to Federal procurement rules. Twenty-five Civilian Conservation Centers (CCCs) are operated through an interagency agreement with the U.S. Department of Agriculture (USDA). Job Corps receives annual funding to operate centers, administer the program, and build, maintain, expand, or upgrade a limited number of new and existing facilities.

II. Established Criteria

As part of the Department's ongoing efforts to ensure that Job Corps' resources are used to deliver the best possible results for students, it may determine that a different approach will allow Job Corps to more effectively serve its students.

A. The Criteria for Proposing a Different Approach

The Workforce Innovation and Opportunity Act (WIOA), which became effective on July 1, 2015, directs DOL to “establish written criteria that the Secretary shall use to determine when a Job Corps center supported under this part is to be closed and how to carry out such closure[.]” 29 U.S.C. 3211(c)(1). Consequently, the Department published three criteria for making this determination.

1. A methodology for selecting a center based on its chronic low performance, first described in an August 2014 Federal Register Notice (FRN) (79 FR 51198), and updated in a March 2016 FRN (81 FR 12529);

2. An agreement between the Secretaries of Labor and Agriculture to close a CCC, as described in the March 2016 FRN; and

3. An evaluation of the effort required to provide a high-quality education and training program at the center, as described in the March 2016 FRN.

DOL may make this determination based on any one of the three criteria, and a single criterion may be applied independently of the others. Thus, while a center may qualify under more than one criterion, DOL may choose to rely on only one criterion when making its determination. These criteria have been previously established; therefore, the Department does not seek comments on these criteria in response to this Notice.

Prior to making a decision, the Department also applies the Additional Considerations first discussed in the August 2014 notice and amended in a September 2017 FRN (82 FR 44842), and described below.

B. Additional Considerations

As described in the March 2016 FRN, after applying any of the three criterion identified above the Department will consider the following factors, as appropriate, when deciding a different course of action:

1. Job Corps Services for Residents in All Geographic Areas

The Department is committed to providing services in a broad geographic area. When deciding to propose a center for deactivation or consolidation, DOL will continue to ensure adequate training opportunities for eligible individuals in or near the area where they reside. The Job Corps program will also continue to maintain a nationwide outreach strategy. Additionally, DOL will take into account whether proposing a different direction for a center would have a disproportionate impact on the training and post-enrollment opportunities for students in any one geographic area and ensure that it does not too rapidly reduce Job Corps' presence in any geographic area.

2. Sufficiency of Data Available To Evaluate Center Performance

When proposing a different direction for chronic low performance, the Department will not consider any center for which it does not have sufficient data to evaluate that center's performance. Because this Notice is not based on center performance, this consideration does not apply to the proposed actions discussed below.

3. Indication of Significant Recent Performance Improvement

When applying the performance-based methodology, the Department will consider evidence of recent performance improvement. Therefore, a center will be removed from consideration based on performance-based criteria if it is performing in the top half of centers in the most recent full year of performance data. Again, because this notice does not propose an action based on performance, this consideration does not apply to the proposals discussed below.

4. Job Corps' Commitment to Diversity

Job Corps currently serves a diverse student population and remains committed to serving at-risk youth from all backgrounds. In making final decisions under any of the three criteria identified in Section A above, the Department will consider whether an action would result in a significant reduction in student diversity within the overall Job Corps system.

III. Proposal To Take a Different Approach

For the reasons discussed below, Job Corps proposes to deactivate the Gainesville center, and consolidate the Barranquitas center into two other centers under the third criterion—an evaluation of the effort required to provide a high-quality education and training program at the center, as described in the March 2016 FRN.

Some centers, for a variety of reasons, face more difficult challenges than others in providing a safe, secure environment where participants can receive high-quality skills instruction. Addressing these challenges may require sustained efforts that involve significant programmatic, staff, capital, organizational, and/or other investments and resources, and sometimes these challenges continue regardless of the contractor or entity operating the center. Even with such a commitment, it may be difficult to achieve positive outcomes for students.

In such a situation, Job Corps will carefully assess the following:

1. The ongoing needs of the center against those of the program overall.

2. The effort required to provide and maintain a high-quality, safe, and productive living and learning environment.

3. Whether that effort is likely to ultimately produce an outcome that contributes to the program's overall strength and integrity.

After reviewing all relevant information, the Department may decide to propose a different approach to serving at-risk youth.

Following an evaluation of continuing center operations using the framework outlined above, the Department proposes deactivation of the Gainesville Job Corps Center and the consolidation of the Barranquitas Job Corps Center.

A. Gainesville Job Corps Center

The Gainesville center has been inactive since September 2017, when it suffered considerable damage by Hurricane Irma. The center has 12 buildings and is located on 47 acres of land. The original building was built around 1955. Due to the age of the facility, it faced numerous significant issues prior to the hurricane. Improvements are needed to the fire prevention system, including fire separation walls and the fire sprinkler system. Sanitary sewer lines in two separate buildings are collapsing and require extensive repairs. There are also numerous other deficiencies in multiple buildings, including heating, ventilation, and air conditioning problems.

The aging facility is located in an industrial area. As a result of previous use, there is significant soil and groundwater contamination on the property. Under an agreement with the Florida Department of Environmental Protection, the property is subject to a Remedial Action Plan, which restricts the ability to perform work in the contaminated areas. A plume of groundwater contaminated by chlorinated solvents is also present on the southern property border and has migrated towards neighboring properties owned by the City of Gainesville. The plume is under remediation by Unisys, the successor company to Sperry Rand, the original owner, under a settlement agreement between the Department, the City of Gainesville, and the Florida Department of the Environmental Protection.

As a result of Hurricane Irma in September 2017, the facilities sustained serious flooding that raised concerns that chemically contaminated water entered into the center's buildings, including the dormitory and other buildings frequented by students. Extensive mold was found in multiple buildings, remediation of which will require a major asbestos abatement project due to the large quantity of asbestos floor tile and adhesive in the buildings. Sewage contamination was also present. Pre-existing soil contamination must also be addressed to perform needed facility repairs.

The total estimated costs to address the existing facility issues and repair the damage caused by Hurricane Irma and the related environmental issues is $10.3 million. This is a level of dedicated resources that will tax the Job Corps program's ability to create safe environments for skills instruction. More than 25 percent of Job Corps' more than 4,000 buildings are over 50 years old and their repair costs contribute to a total repair and construction cost estimated at more than $700 million.¹ Spending such a significant part of the program's construction budget to make the needed repairs at this center would significantly impact Job Corps' ability to make needed repairs and improvements, including important safety improvements, at other centers. This is not a prudent use of the Department's resources, particularly given the successful maintenance of opportunities in Florida and the Southeast generally. In addition, Gainesville rehabilitation would take years to complete.

¹ This information is based on data reported to the General Services Administration's Federal Real Property Profile Management System. The data reported is from Job Corps' Engineering Support Contractor Information System (ESCIS) as of September 30, 2018.

The Job Corps program retains robust capacity in Florida, a state where there are three other centers, including the Jacksonville Job Corps Center approximately 70 miles from the Gainesville campus. None of the three Job Corps centers in Florida are operating at capacity; all have the ability to accept additional students. Collectively these centers have the capacity to absorb the area's demand. By consolidating the operation of the Job Corps program at the three remaining Florida centers, the state will retain the ability to adequately serve at-risk youth with greater operational and administrative efficiencies. In addition, through demonstration project authority in section 156(a) of WIOA, DOL plans to expand opportunities to serve Job Corps eligible youth through a partnership with the Florida Department of Military Affairs (Florida National Guard).

In order to provide functional, safe, and secure campuses for as many students as possible given the limited resources available, DOL has determined students in Florida and across the country will be better served if Job Corps' construction and repair budget—and the time, personnel, and effort required to administer the use of these funds—is allotted across the entire system to improve the conditions of as many centers and as many students as possible as opposed to investing the necessary resources in Gainesville.

B. Barranquitas Job Corps Center

The Barranquitas Job Corps Center has 14 buildings on 12 acres of land in a rural area approximately 40 miles south of San Juan, Puerto Rico. The center has been inactive since Hurricane Maria damaged it in September 2017. All three centers in Puerto Rico were damaged by the hurricane; Barranquitas sustained the greatest amount of damage.

Barranquitas has numerous physical deficiencies that existed prior to the hurricane and many caused by Hurricane Maria. Prior to the hurricane, multiple center deficiencies were under contract for repair, including roof leaks in eight of the 14 buildings, and replacement of all of the windows in the gymnasium, many of which were no longer keeping the elements out. The hurricane exacerbated these roof issues and caused significant interior water damage. Further, the hurricane caused significant erosion along the north boundary of the property, leading to a destabilized slope that resulted in foundation damage to the emergency generator facility. If the slope is not repaired and stabilized, future storms could cause additional erosion under the foundation of the facilities used for academic and vocational training. The total estimated cost to address the pre-existing facility issues and repair the hurricane damage at Barranquitas is $19 million.

Job Corps can continue to serve at-risk youth in Puerto Rico by consolidating operations at two of Puerto Rico's three centers. Puerto Rico's Ramey Job Corps Center sustained the least damage from Hurricane Maria. Job Corps re-opened the center in May 2018. All of the trades formerly offered by both the Arecibo Job Corps Center, also in Puerto Rico, and the Barranquitas Job Corps Center are now offered at Ramey. There were 249 students at the Ramey Job Corps Center at the time of the hurricane; however, after assessing available space, the planned number of students was increased to 470 to accommodate as many students as possible. Further, Job Corps initiated the rehabilitation of the Arecibo Job Corps Center in June 2018. The center is scheduled to reopen by February 2020, with an increased capacity of 201 students. When Arecibo reopens, Job Corps will have the capacity to serve the same number of students on the island as it had prior to Hurricane Maria. Merging the operations of three centers into two centers will increase the efficiency of the administration and operation of the Job Corps program in Puerto Rico, leading to reduced costs and better service for the students on the island.

Given the other two Job Corps centers in Puerto Rico can successfully serve the same number of students previously served by all three centers, it is a more prudent long-term approach to invest available construction and rehabilitation resources in two Job Corps centers rather than divide the resources among three centers.

IV. Request for Public Comments

After studying (1) the needs of the centers against those of the program overall; (2) the effort needed to provide and maintain a high-quality, safe, and productive living and learning environment; and (3) whether that effort is likely to ultimately produce an outcome that contributes to the program's overall strength and integrity, the Department has concluded that restarting operations at the Gainesville and Barranquitas Job Corps Centers is not in the best interest serving at-risk youth as well as the program as a whole.

After completing this evaluation, the Department then applied the relevant additional considerations as amended in the September 2017 FRN and discussed above in Section II.B and determined that these considerations did not preclude actions proposed as to the Gainesville or Barranquitas Job Corps Centers.

The Department now requests public comments on its proposals associated with the Gainesville and Barranquitas Job Corps centers.

V. The Process Under the Workforce Innovation and Opportunity Act (WIOA)

The Department's process will follow the requirements of section 159(j) of the WIOA, which include the following:

• Announcing the proposed decision concerning a particular center in advance to the general public through publication in the Federal Register or other appropriate means;

• Establishing a reasonable comment period, not to exceed 30 days, for interested individuals to submit written comments to the Secretary; and

• Notifying the Member of Congress who represents the district in which the center is located within a reasonable period in advance of any final decision concerning the status of the center.

This Notice serves as the public announcement of the proposals associated with the Gainesville Job Corps Center and the Barranquitas Job Corps Center. The Department is providing a 30-day period—the maximum amount of time allowed for comment under WIOA sec. 159(j)—for interested individuals to submit written comments on the proposed decision. The Department will announce its final decision following the conclusion of the comment period.

Molly E. Conway,
Acting Assistant Secretary for Employment and Training.

[FR Doc. 2018-28357 Filed 12-31-18; 8:45 am]

BILLING CODE 4510-FT-P